DEPARTMENT OF DEFENSE

Department of the Army

Record of Decision (ROD) for Grow the Army (GTA) Actions at Fort Lewis and the Yakima Training Center (YTC), Washington

AGENCY: Department of the Army, DoD.

ACTION: Notice of Availability (NOA).

SUMMARY: The Executive Director of the Army's Installation Management Command (IMCOM) has reviewed the Final Environmental Impact Statement (FEIS) for implementing Army GTA decisions at Fort Lewis and YTC and has made the decision to proceed with implementing the Preferred Alternative for the Proposed Action. The Preferred Alternative has several components that consist of stationing up to 1,900 Soldiers at Fort Lewis to implement GTA stationing decisions, the potential stationing of up to approximately 1,000 additional combat service support (CSS) Soldiers, and the potential stationing of a Combat Aviation Brigade (CAB) of up to 2,800 Soldiers. If all stationing components are implemented, the Preferred Alternative would station up to 5,700 Soldiers, along with their Families, at Fort Lewis. Soldiers stationed at Fort Lewis as part of this decision would train at Fort Lewis and YTC. This alternative is summarized in the Army's ROD and described fully in Chapter 2 of the FEIS.

ADDRESSES: Questions or comments regarding the ROD should be forwarded to: Directorate of Public Works, Attention: Environmental (Mr. Paul T. Steucke, Jr.), Building 2012 Liggett Avenue, Box 339500 MS 17, Joint Base Lewis-McChord, WA 98433-9500.

FOR FURTHER INFORMATION CONTACT: Mr. Bill Van Hoesen, Joint Base Lewis-McChord National Environmental Policy Act (NEPA) Coordinator, at (253) 966-1780 during normal business hours.

SUPPLEMENTARY INFORMATION: The ROD incorporates analyses contained in the FEIS, including comments provided during formal comment and review periods. The ROD discusses the ability of each alternative to meet the Purpose and Need for the Proposed Action and outlines environmental mitigation commitments the Army will implement as part of this decision. The preferred alternative was selected as it is best able to meet the Army's mission training and operational requirements while supporting the Army's responsibility for protecting and sustaining the environment. The stationing of CSS units and/or a CAB are actions that the Army may implement in the future. Currently, the Army is completing a programmatic environmental analysis of suitable installations for CAB stationing that may result in the assignment of additional aviation units at Fort Lewis. As part of that CAB stationing evaluation, the Army considered the stationing of a full CAB equivalent of Soldiers and equipment; however, consideration is being given to stationing approximately half that total (up to 1,400 new Soldiers and their equipment). This more limited CAB stationing would provide a CAB training capability at Fort Lewis that would complement Active Army aviation units already stationed there. A final decision on the CAB stationing will be made as part of a separate decision process by the Army.

This ROD documents the decision to proceed with the stationing of 1,900 GTA Soldiers at Fort Lewis, and the decision about where the facilities for the CSS and CAB units could be located on the installation, what and where the training may be conducted, and what impacts or effects are anticipated. Construction and training to support CSS and CAB stationing would proceed in the future if the Army decided to station all or some of these Soldiers at Fort Lewis.

On February 1, 2010, Fort Lewis, Yakima Training Center, and McChord Air Force Base were designated a joint base and renamed Joint Base Lewis-McChord (JBLM); however, the terms Fort Lewis, and Yakima Training Center (YTC) are retained in the EIS and ROD and will be used until the EIS process is complete.

A rationale for the decision can be found in the ROD which is available for public review at http://www.lewis.army.mil/publicworks/sites/envir/EIA_2.htm.

Dated: February 17, 2011.
Hershell E. Wolfe,
Acting Deputy Assistant Secretary of the Army, Environment, Safety and Occupational Health.

[FR Doc. 2011-4332 Filed 2-25-11; 8:45 am]

BILLING CODE 3710-08-P